DEPARTMENT OF THE INTERIOR

National Park Service

National Register of Historic Places; Notification of Pending Nominations and Related Actions

Nominations for the following properties being considered for listing or related actions in the National Register were received by the National Park Service before April 19, 2008. Pursuant to § 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington DC 20005; or by fax, 202-371-6447. Written or faxed comments should be submitted by May 20, 2008.

J. Paul Loether,
Chief, National Register of Historic Places/National Historic Landmarks Program.

ALABAMA

Conecuh County

Johnston, Asa, Farmhouse, Co. Rd. 29 .6 mi NW. of jct. with Co. Rd. 6, Johnsonville, 08000455

Jefferson County

Bass, Jonathan W., House, 629 Montevallo Rd., Leeds, 08000456

Slossfield Community Center, 1901 25th Ct. N., Birmingham, 08000457

Mobile County

Aimwell Baptist Church, 500 Earle St., Mobile, 08000458

Mt. Olive Missionary Baptist Church No.1, 409 Lexington Ave., Mobile, 08000459

Turner—Todd Motor Company, 455 St. Louis St., Mobile, 08000460

ARIZONA

Yavapai County

Cross Creek Ranch House, 10 Russet Ridge Pl., Sedona, 08000461

ARKANSAS

Franklin County

Charleston Commercial Historic District, Main St. roughly from AR 217 to Tilden St., Charleston, 08000462

FLORIDA

Lee County

Towles, William H., House, 2050 McGregor Blvd., Fort Myers, 08000463

MASSACHUSETTS

Berkshire County

Clinton African Methodist Episcopal Zion Church, 9 Elm Ct., Great Barrington, 08000464

Worcester County

Mount Vernon Cemetery, Church St., West Boylston, 08000465

MINNESOTA

Becker County

Detroit Lakes City Park, Washington Ave. & North Shore Dr., Detroit Lakes, 08000466

NEW JERSEY

Middlesex County

Great Beds Light Station, (Light Stations of the United States MPS) Offshore in Raritan Bay at NJ-NY line approx. 1 mi. E. of South Amboy, South Amboy, 08000467

NEW YORK

Cayuga County

Otis, Job and Deborah, House, (Freedom Trail, Abolitionism, and African American Life in Central New York MPS) 1882-1886 Sherwood Rd., Sherwood, 08000468

Cortland County

Cortland Free Library, 32 Church St., Cortland, 08000469

Town Line Bridge, Town Line Rd., Taylor, 08000470

Queens County

Trinity Lutheran Church, 31-18 37th St., New York, 08000471

OREGON

Deschutes County

Wienecke, Emil and Ottilie, House, 1325 NW. Federal St., Bend, 08000472

Multnomah County

Mount Hood Masonic Temple, 5308 N. Commercial Ave., Portland, 08000473

TEXAS

Bexar County

White, R.L., Ranch, 18744 Bandera Rd. E., Helotes, 08000474

Dallas County

Building at 3525 Turtle Creek Boulevard, 3525 Turtle Creek Blvd., Dallas, 08000475

Denton County

Central Roanoke Historic District, 100 & 200 blks. of N. Oak St., Roanoke, 08000476

Galveston County

USS CAVALLA (submarine), E. end of Seawolf Park, Galveston, 08000477

Nacogdoches County

Nacogdoches Downtown Historic District, Roughly bounded by Southern Pacific RR tracks, Banita Cr., Pilar, Mound, Arnold, North & Hospital Sts., Nacogdoches, 08000478

VIRGINIA

Bedford Independent City

Elks National Home, 931 Ashland Ave., Bedford (Independent City), 08000479

Northampton County

Northampton Lumber Company Historic District, Jct. of VA 912 & US 13, Nassawadox, 08000480

Page County

Graves Chapel and Cemetery, 457 Chapel Rd., Stanley, 08000481

Powhatan County

Rosemont, 4747 Cosby Rd., Powhatan, 08000482

Southampton County

Mahone's Tavern, 22341 Main St., Courtland, 08000483

[FR Doc. E8-9724 Filed 5-2-08; 8:45 am]

BILLING CODE 4312-51-P